DEPARTMENT OF THE INTERIOR

National Park Service

Elk and Vegetation Management Plan, Final Environmental Impact Statement, Rocky Mountain National Park, CO

AGENCY: National Park Service, Department of the Interior.

ACTION: Notice of Availability of a Record of Decision on the Final Environmental Impact Statement for the Elk and Vegetation Management Plan, Rocky Mountain National Park

SUMMARY: Pursuant to the National Environmental Policy Act of 1969, 42 U.S.C. 4332(2)(C), the National Park Service announces the availability of the Record of Decision for the Elk and Vegetation Management Plan, Rocky Mountain National Park, Colorado. On February 15, 2008, the Regional Director, Intermountain Region, approved the Record of Decision for the project. As soon as practicable, the National Park Service will begin to implement the Preferred Alternative contained in the FEIS issued on January 4, 2008. The Final Plan analyzed five alternatives, including a no action alternative (Alternative 1), to manage elk and vegetation within the Park. The four action alternatives each used different combinations of management tools to reduce the elk population size and densities, redistribute elk, restore natural migration, and restore vegetation. All action alternatives emphasized adaptive management. Alternative 2 used intensive lethal reduction (culling) of elk in the first four years of the plan to reach a population size on the low end of the natural range of variation, in combination with minimal fencing. Alternative 4 used a fertility control agent along with gradual lethal reduction (culling) of elk over the 20 year life of the plan to reach a population size on the high end of the natural range of variation, in combination with a moderate amount of fencing. Alternative 5 used introduction of a small number of intensively managed wolves, along with intensive lethal reduction (culling) of elk in the first four years of the plan to reach a population size that incorporated the full range of natural variation, in combination with minimal fencing.

The selected action, Alternative 3, relies on a variety of conservation tools including fencing, redistribution, vegetation restoration and lethal reduction (culling). In future years, the park will, using adaptive management principles, reevaluate opportunities to use wolves or fertility control as additional tools. The selected alternative includes the gradual lethal reduction (culling) of elk by National Park Service staff and authorized agents of the National Park Service to achieve an elk population size at the high end of the natural range of variation of 1,600 to 2,100 elk (600 to 800 park subpopulation; 1,000 to 1,300 town subpopulation) by the end of the plan. Inside the park, up to 200 elk will be removed annually over 20 years. To the extent possible, elk carcasses and/or meat resulting from these actions will be donated through an organized program to eligible recipients, including tribes, based on informed consent and pursuant to applicable public health guidelines. Aspen stands (up to 160 acres) on the elk range will be fenced to exclude elk herbivory. Because this alternative will result in a target population at the high end of the natural range, up to 440 acres of suitable willow habitat will be fenced in the high elk-use areas of the primary summer and winter ranges. These temporary fences will be installed adaptively, based on vegetation response to elk management actions as indicated through a monitoring program. To reduce elk densities on the elk range outside of fenced areas, redistribution of the population will occur using herding, aversive conditioning, and use of unsuppressed weapons for culling. The plan incorporates adaptive management and monitoring to determine the level and intensity of management actions needed, including elk population reductions, fencing, herding, and aversive conditioning. Population numbers will be estimated annually and the number of animals to be removed will be determined based on the most current population estimates. If the elk population is within the defined portion of the range of natural variation and vegetation management objectives are being met, no lethal reduction activities will take place. Culling will be administered by the National Park Service and carried out by National Park Service personnel and their authorized agents. For purposes of this plan, “authorized agents” can include: Professional staff from other federal, state, or local agencies or tribes; contractors; or qualified volunteers.

For all alternatives the full range of foreseeable environmental consequences was assessed, and appropriate mitigating measures were identified.

The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Therese Johnson, 1000 Highway 36, Rocky Mountain National Park, Estes Park, Colorado 80517, 303-772-5474, therese_johnson@nps.gov.

SUPPLEMENTARY INFORMATION: Copies of the Record of Decision may be obtained from the contact listed above or online at http://parkplanning.nps.gov/romo.

Dated: April 3, 2008.
Michael D. Snyder,
Regional Director, Intermountain Region, National Park Service.

[FR Doc. E8-8116 Filed 4-15-08; 8:45 am]

BILLING CODE 4310-08-M